DEPARTMENT OF THE INTERIOR

Bureau of Ocean Energy Management

[OMB Control Number 1010-0114; Docket ID BOEM-2017-0016]

Agency Information Collection Activities; Oil and Gas Production Requirements in the Outer Continental Shelf

AGENCY: Bureau of Ocean Energy Management, Interior.

ACTION: Notice of information collection; request for comment.

SUMMARY: In accordance with the Paperwork Reduction Act of 1995, the Bureau of Ocean Energy Management (BOEM) is proposing through an information collection request (ICR) to renew Office of Management and Budget (OMB) information collection control number 1010-0114 with revisions.

DATES: Public comments must be received by BOEM on or before September 30, 2022.

ADDRESSES: Send your comments on this ICR by mail or commercial delivery service to the BOEM Information Collection Clearance Officer, Anna Atkinson, Bureau of Ocean Energy Management, 45600 Woodland Road, Sterling, Virginia 20166; or by email to anna.atkinson@boem.gov. Please reference OMB Control Number 1010-0114 in the subject line of your comments.

FOR FURTHER INFORMATION CONTACT: Contact Anna Atkinson by email at anna.atkinson@boem.gov, or by telephone at 703-787-1025. Individuals in the United States who are deaf, deafblind, hard of hearing, or have a speech disability may dial 711 (TTY, TDD, or TeleBraille) to access telecommunications relay services. Individuals outside of the United States should use the relay services offered within their country to make international calls to the point-of-contact in the United States. You may also view the ICR and its related documents by searching the docket number BOEM-2017-0016 at http://www.reginfo.gov/public/do/PRAMain.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

BOEM is soliciting comments on the proposed ICR described below. BOEM is especially interested in public comments addressing the following issues: (1) is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record. BOEM will include or summarize each comment in its ICR to OMB for approval of this information collection. You should be aware that your entire comment—including your address, phone number, email address, or other personally identifiable information included in your comment—may be made publicly available at any time. Even if BOEM withholds your information in the context of this ICR, your submission is subject to the Freedom of Information Act (FOIA). If your submission is requested under the FOIA, your information will only be withheld if a determination is made that one of the FOIA's exemptions to disclosure applies. Such a determination will be made in accordance with the Department of the Interior's (DOI) FOIA regulations and applicable law.

In order for BOEM to consider withholding from disclosure your personally identifying information, you must identify, in a cover letter, any information contained in the submittal of your comments that, if released, would constitute a clearly unwarranted invasion of your personal privacy. You must also briefly describe any possible harmful consequence of the disclosure of information, such as embarrassment, injury, or other harm.

Note that BOEM will make available for public inspection all comments, in their entirety, submitted by organizations and businesses or by individuals identifying themselves as representatives of organizations or businesses.

BOEM protects proprietary information in accordance with FOIA (5 U.S.C. 552), DOI's implementing regulations (43 CFR part 2), and 30 CFR parts 550 and 552 promulgated pursuant to the Outer Continental Shelf Lands Act (OCS) Lands Act (43 U.S.C. 1352(c)).

Title of Collection: “30 CFR part 550, subpart A, General, and Subpart K, Oil and Gas Production in the Outer Continental Shelf.”

Abstract: This ICR addresses regulations under 30 CFR part 550, subparts A and K, which deal with regulatory requirements of oil, gas, and sulfur operations on the OCS. This request also covers the related notices to lessees and operators (NTLs) that BOEM issues to clarify and provide guidance on some aspects of its regulations, and forms BOEM-0127, BOEM-0140, BOEM-1123, and BOEM-1832.

The OCS Lands Act, as amended (43 U.S.C. 1331 et seq.), authorizes the Secretary of the Interior to prescribe rules and regulations to administer leasing of the OCS and all operations conducted under a lease. Leasing on the OCS must balance orderly energy resource development with protection of the human, marine, and coastal environments; ensure the public a fair return on the resources of the OCS; and preserve and maintain free enterprise competition.

BOEM uses the information collected under these regulations to ensure that leasing and operations on the OCS are carried out in a safe and environmentally sound manner, do not interfere with the rights of other users on the OCS, and balance the protection and development of OCS resources. Specifically, BOEM uses the information collected to:

• Determine the capability of a well to produce oil or gas in paying quantities or to determine the possible need for additional wells resulting in minimum royalty status on a lease.

• Provide lessees and operators greater flexibility to comply with regulatory requirements through approval of alternative equipment or procedures or to depart from regulatory requirements, if they demonstrate equal or better compliance with the appropriate performance standards.

• Ensure that subsurface storage of natural gas does not unduly interfere with development and production operations under existing leases.

• Determine if an application for a right-of-use and easement grant complies with the OCS Lands Act, other applicable laws, and BOEM regulations, and does not unreasonably interfere with the operations of any other lessee.

• Provide for orderly development of oil and gas resources while protecting the environment.

• Determine the appropriateness of disqualification of a lessee or operator based on performance.

• Ascertain if circumstances exist which warrant cancellation of leases.

• Ensure the protection of any discovered archaeological resources.

• Regulate production rates from sensitive reservoirs based on information submitted on Form BOEM-0127, “Sensitive Reservoir Information (SRI) Report.” BOEM engineers and geologists use the information for rate control and reservoir studies. The form requests general information about the reservoir, the company, volumetric data, and fluid analysis and production data.

• Manage reservoirs based on information submitted on Form BOEM-0140, “Bottomhole Pressure Survey Report,” in order to conserve natural resources, prevent waste, and protect correlative rights, including the Government's royalty interest. The form requests information about the well and operator; test data information such as shut-in time, bottomhole temperature, kelly bushing elevation; and bottomhole pressure points that consist of measured depths, true vertical depths, pressures, and pressure gradients.

• Record the designation of an operator through Form BOEM-1123, “Designation of Operator,” authorized to act on behalf of the lessee and any operating rights owner to fulfill their obligations under the OCS Lands Act and implementing regulations. The form also is used to record the local agent empowered to receive notices and comply with regulatory orders issued. This form requires the respondent to submit general information such as lease number, name, address, company number of designated operator, and signature of the authorized representative of the lessee.

• Provide operator notice of violations through Form BOEM-1832, “Notification of Incidents of Noncompliance [INC].” The BOEM issues this form to the operator. The operator corrects the INCs included on the form, signs to confirm corrective action has been taken, and returns the form to BOEM.

OMB Control Number: 1010-0114.

Form Number:

• BOEM-0127, “Sensitive Reservoir Information (SRI) Report;”

• BOEM-0140, “Bottomhole Pressure Survey Report;”

• BOEM-1123, “Designation of Operator;” and

• BOEM-1832, “Notification of Incidents of Noncompliance.”

Type of Review: Revision of a currently approved information collection.

Respondents/Affected Public: Federal oil, gas, or sulfur lessees and operators.

Total Estimated Number of Annual Responses: 5,621 responses.

Total Estimated Number of Annual Burden Hours: 27,849 hours.

Respondent's Obligation: Mandatory.

Frequency of Collection: On occasion, monthly.

Total Estimated Annual Non-Hour Burden Cost: $165,492.

Estimated Reporting and Recordkeeping Hour Burden: The current annual burden for this collection is 18,323 hours and 5,302 responses. BOEM proposes to increase the annual burden to 27,849 hours and 5,621 responses. BOEM conducted public outreach where industry recommended increasing the numbers for static bottomhole pressure surveys and sensitive reservoir information reports. Based on industry recommendations, BOEM is asking OMB for approval of an additional 9,526 annual burden hours and 319 responses.

The following table details the individual components and respective hour burden estimates of this ICR.

Burden Breakdown
Citation 30 CFR 550 subpart A and related forms/NTLs | Reporting or recordkeeping requirement | Hour burden | Average number of annual responses | Annual burden hours
| Non-hour cost burdens
Authority and Definition of Terms
104; 181; Form BOEM-1832 | Appeal orders or decisions; appeal INCs; request hearing due to cancellation of lease | Exempt under 5 CFR 1320.4(a)(2), (c) |  | 0
Performance Standards
115; 116 | Request determination of well producibility; make available or submit data and information; notify BOEM of test | 5 | 90 responses | 450
119 | Apply for subsurface storage of gas; sign storage agreement | 10 | 3 applications | 30
Subtotal | 93 responses | 480 hours
Cost Recovery Fees
125; 126; 140 | Cost Recovery Fees; confirmation receipt etc.; verbal approvals and written request to follow. Includes request for refunds | Cost Recovery Fees and related items are covered individually throughout this subpart. |  | 0
Designation of Operator
143 | Report change of name, address, etc | Not considered information collection under 5 CFR 1320.3(h)(1). |  | 0
143(a-c); 144; Form BOEM-1123 | Submit designation of operator (Form BOEM-1123—form takes 30 minutes); report updates; notice of termination; submit designation of agent. Request exception. NO FEE | 1 | 2,584 forms | 2,584
143(a-d); 144; Form BOEM-1123 | Change designation of operator (Form BOEM-1123—form takes 30 minutes); report updates; notice of termination; submit designation of agent; include pay.gov confirmation receipt. Request exception | 1 | 930 forms | 930
| SERVICE FEE | $175 fee × 930 = $162,750
186(a)(3) | Apply for user account in TIMS (electronic/digital form submittals) | Not considered information collection under 5 CFR 1320.3(h)(1). |  | 0
Subtotal | 3,514 responses | 3,514
| $162,750 non-hour cost burden
Compliance
101; 135; 136; Form BOEM-1832 | Submit response and required information for INC, probation, or revocation of operating status. Notify when violations corrected | 2 | 94 submissions | 188
| Request waiver of 14-day response time or reconsideration | 1 | 1 | 1
135; 136 | Request reimbursement for services provided to BOEM representatives during reviews; comment | 1.5 | 2 requests | 3
Subtotal | 97 responses | 192
Special Types of Approval
125(c); 140 | Request various oral approvals not specifically covered elsewhere in regulatory requirements | 1 | 100 requests | 100
141; 101-199 | Request approval to use new or alternative procedures; submit required information | 20 | 100 requests | 2,000
142; 101-199 | Request approval of departure from operating requirements not specifically covered elsewhere in regulatory requirements; submit required information | 2.5 | 100 requests | 250
Subtotal | 300 responses | 2,350
Right-of-use and Easement
160; 161; 123; NTL 2015-N06 | OCS lessees: Apply for new or modified right-of-use and easement to construct and maintain off-lease platforms, artificial islands, and installations and other devices; include notifications and submitting required information | 9 | 26 applications | 234
160(c) | Establish a Company File for qualification; submit updated information, submit qualifications for lessee/bidder, request exception | Burden covered under 30 CFR 556 (1010-0006). |  | 0
160; 165; 123 | State lessees: Apply for new or modified right-of-use and easement to construct and maintain off-lease platforms, artificial islands, and installations and other devices; include pay.gov confirmation and notifications | 5 | 1 application | 5
|  | $2,742 state lease fee × 1 = $2,742
166; NTL 2015-N04 | State lessees: Furnish surety bond; additional security if required | Burden covered under 30 CFR 556 (1010-0006). |  | 0
Subtotal | 27 responses | 239
| $2,742 non-hour cost burden
Primary Lease Requirements, Lease Term Extensions, and Lease Cancellations
181(d); 182(b), 183(a)(b) | Request termination of suspension, cancellation of lease, lesser lease term (no requests in recent years for termination/cancellation of a lease; minimal burden) | 20 | 1 request | 20
182; 183, 185; 194 | Submitting new, revised, or modified exploration plan, development/production plan, or development operations coordination document, and related surveys/reports | Burden covered under 30 CFR 550, Subpart B (1010-0151). |  | 0
184 | Request compensation for lease cancellation pursuant to the OCS Lands Act (no lease cancellations in many years; minimal burden) | 50 | 1 request | 50
Subtotal | 2 responses | 70
Information and Reporting Requirements
186(a) | Apply to receive administrative entitlements to eWell/TIMS system for electronic submissions | Not considered IC under 5 CFR 1320.3(h)(1). |  | 0
186; NTL 2015-N01 | Submit information, reports, and copies as BOEM requires (as related to worst case discharge and blowout scenarios) | 10 | 125 | 1,250
135; 136 | Report apparent violations or non-compliance | 1.5 | 2 reports | 3
194 | Report archaeological discoveries. Submit archaeological and follow-up reports and additional information | 2 | 6 reports | 12
194 | Request departures from conducting archaeological resources surveys and/or submitting reports in GOMR | 1 | 2 requests | 2
194 | Submit ancillary surveys/investigations reports, as required | Burden covered under 30 CFR 550 Subpart B (1010-0151). |  | 0
196 | Submit data/information for G&G activity and request reimbursement | Burden covered under 30 CFR 551 (1010-0048). |  | 0
197(b)(2) | Demonstrate release of G&G data would unduly damage competitive position | 1 | 1 | 1
197(c) | Submit confidentiality agreement | 1 | 1 | 1
Subtotal | 137 responses | 1,269
Recordkeeping
135; 136 | During reviews, make records available as requested by inspectors | 2 | 7 reviews | 14
Subtotal | 7 responses | 14

Citation 30 CFR 550 subpart K and related forms | Well surveys and classifying reservoirs | Hour burden | Average number of annual responses | Annual burden hours
1153 | Conduct static bottomhole pressure survey; submit Form BOEM-0140 (Bottomhole Pressure Survey Report) | 19 GOM 70 Pacific 0 Alaska | 330 surveys 70 surveys 0 | 6,270 4,900 0
1153(d) | Submit justification, information, and Form BOEM-0140, to request a departure from requirement to run a static bottomhole pressure survey | 9 | 120 survey departures | 1,080
1154; 1167 | Submit request and supporting information to reclassify reservoir | 8 | 5 requests | 40
1155; 1165(b); 1166; 1167 | Submit Form BOEM-0127 (Sensitive Reservoir Information Report) and supporting information/revisions (within 45 days after the beginning of production, discovering that the reservoir is sensitive, the reservoir is classified as sensitive, or when reservoir parameters are revised. SRIs must be submitted annually). AK Region: submit BOEM-0127 and request an MER for each producing sensitive reservoir | 8 GOM 40 Pacific 2 Alaska | 700 forms 39 forms 1 form | 5,600 1,560 2
1153-1167 | Request general departure or alternative compliance not specifically covered elsewhere in regulatory requirements | 10 GOM 1 Pacific 0 Alaska | 10 departures 169 departures 0 | 100 169 0
1165 | Submit proposed plan for enhanced recovery operations to BSEE | Burden covered under BSEE 30 CFR 250 (1014-0019). |  | 0
Subtotal | 1,444 responses | 19,721
TOTAL BURDEN | 5,621 Responses | 27,849
| $165,492 Non-Hour Cost Burdens

An agency may not conduct or sponsor, and a person is not required to respond to, a collection of information unless it displays a valid OMB control number.

The authority for this action is the Paperwork Reduction Act of 1995 (44 U.S.C. 3501 et seq.).

Signed:
Peter Meffert,
Acting Chief, Office of Regulations.

[FR Doc. 2022-16386 Filed 7-29-22; 8:45 am]

BILLING CODE 4310-MR-P